DEPARTMENT OF AGRICULTURE

Food and Nutrition Service

Agency Information Collection Activities: Proposed Collection; Comment Request; Food Stamp Program Redemption Certificate, Form, FNS-278B; Food Stamp Program Wholesaler Redemption Certificate, Form FNS-278-4

AGENCY: Food and Nutrition Service, USDA.

ACTION: Notice and request for comments.

SUMMARY: In accordance with the Paperwork Reduction Act of 1995, the Food and Nutrition Service is publishing for public comment a summary of a proposed information collection. The proposed collection is a revision of a currently approved collection of the Food Stamp Program for which approval expires on February 28, 2005. The Food Stamp Act of 1977, as amended, requires that the Food and Nutrition Service will provide all authorized retail food stores and wholesale food concerns with redemption certificates. The redemption certificates are to be used by all authorized retailers and wholesale firms to present food coupons to insured financial institutions for credit or for cash. Requirements in the Food Stamp Program regulations are the basis for the information collected on Form FNS-278B, Food Stamp Redemption Certificate and Form FNS-278-4, Wholesaler Redemption Certificate.

The Food and Nutrition Service is rapidly phasing out the use of paper food coupons. Currently, 99.9 percent of all food stamp benefits are issued electronically. Forty-eight States, the District of Columbia, the Virgin Islands, Guam, and Puerto Rico have online operating Electronic Benefit Transfer (EBT) systems. Two States operate offline food stamp EBT systems and issue paper food coupons to recipients who move out of State and have remaining food stamp benefits. Many States have already closed out their coupon inventory completely and more will be doing the same in the upcoming year. Approximately 438,955 Redemption Certificates were processed by retailers and wholesalers in Fiscal Year 2004, and the number continues to decline due to 100 percent EBT implementation. Until all of the paper food coupons issued are redeemed, the Redemption Certificate will remain an essential document to the food stamp redemption process.

DATES: Written comments must be received on or before May 6, 2005 to be assured of consideration.

ADDRESSES: Send comments to: Andrea Gordon, Chief, Redemption Management Branch, Benefit Redemption Division, Food and Nutrition Service, U. S. Department of Agriculture, 3101 Park Center Drive, Room 404, Alexandria, VA 22302. Comments may also be submitted via fax to the attention of Andrea Gordon at (703) 305-1863 or via e-mail to: brdhq-web@fns.usda.gov.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 404.

All responses to this notice will be summarized and included in the request for Office of Management and Budget approval. All comments will be a matter of public record.

FOR FURTHER INFORMATION CONTACT: Requests for additional information or copies of this information collection should be directed to Andrea Gordon, (703) 305-2456.

SUPPLEMENTARY INFORMATION: Title: Food Stamp Redemption Certificate.

OMB Number: 0584-0085.

Form Number: FNS-278B and FNS-278-4.

Expiration Date: February 28, 2005.

Type of Request: Revision of a currently approved collection.

Abstract: The Food and Nutrition Service (FNS) of the U.S. Department of Agriculture is the Federal Agency responsible for the Food Stamp Program (FSP). Section 10 of the Food Stamp Act of 1977, as amended, (7 U.S.C. 2019) requires that FNS provide for the redemption, through financial institutions, of food coupons accepted by retail food stores and wholesale food concerns from program participants. 7 CFR 278.3 and 7 CFR 278.4 of the FSP regulations governs the participation of authorized wholesale food concerns and retail stores in the food coupon redemption process. Form FNS-278B, Food Stamp Redemption Certificate and Form FNS-278-4, Wholesaler Redemption Certificates (RCs) are required to be used by all authorized wholesalers or retailers, and are processed by financial institutions when they are presented for cash or credit. Without the RCs, no vehicle would exist for financial institutions, Federal Reserve Banks, and FNS to track deposits of food coupons.

The burden associated with this form is derived from the numbers of RCs processed annually, based on information available in our Store Tracking and Redemption System database. As of September 2004, the number of program respondents was 152,499 retailers and wholesalers and 5,850 banks participating in the FSP. The number of completed RC responses by authorized retailers was 438,955 annually. We estimate that it takes an average of 1.2 minutes (or .020 hours) for a retailer to complete the information on the RC and for the financial institution to handle and process the document.

For this information collection package, we calculated the burden hours from each year, added them together (2005-2007) and divided by three to obtain the average burden for which we are seeking OMB approval. We estimate the average burden hours for the next three years to be 69.501 hours.

The burden for each of the three fiscal years (FYs) are estimated as follows:

In FY 2005, we estimate the number of program respondents will be 7,624 respondents with 5,850 banks continuing to participate in the FSP—a reduction of 144,874 (or 95 percent) respondents. We also estimate that the number of completed RC responses by authorized retailers to be 8,779.1 annually—providing for a reduction of 430,175.9 (or 95 percent) annual responses, and a total burden hours calculated to be 175.582 hours.

In FY 2006, we estimate the number of program respondents will be 2,668.73 respondents with 5,850 banks continuing to participate in the FSP—a reduction of 4,956.22 (or 65 percent) respondents. We also estimate that the number of completed RC responses by authorized retailers to be 1,316.86 annually—providing for a reduction of 7,462.23 (or 85 percent) annual responses, and a total burden hours calculated to be 26.337 hours.

In FY 2007, we estimate the number of program respondents will be 667.18 respondents with 5,850 banks continuing to participate in the FSP—a reduction of 2,001.55 (or 75 percent) respondents. We also estimate that the number of completed RC responses by authorized retailers to be 329.217 annually—providing for a reduction of 987.66 (or 75 percent) annual responses, and a total burden hours calculated to be 6.584 hours.

The estimated reduction of respondents and annual burden hours is based on a projected decrease in the number of authorized retailers participating in the FSP, and a decrease in the number of RCs processed as a result of fewer authorized retailers accepting paper food coupons due to FNS phasing out the use of paper food coupons.

Respondents: Businesses, wholesale food concerns, or other not-for-profit financial institutions.

Estimated Average Number of Respondents: 3,653.62.

Estimated Annual Number of Responses per Respondent: 0.951.

Estimated Total Average Annual Responses: 3,475.062.

Estimate of Burden: Public reporting burden for this collection of information is estimated to average .020 hours per response.

Estimated Total Average Annual Burden: 69.501 hours.

Dated: March 1, 2005.
Roberto Salazar,
Administrator, Food and Nutrition Service.

[FR Doc. 05-4298 Filed 3-4-05; 8:45 am]

BILLING CODE 3410-30-P